EXPORT-IMPORT BANK

[Public Notice: 2019-6006]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995. This collection of information is necessary to determine eligibility of the export sales for insurance coverage. The Report of Premiums Payable for Financial Institutions Only is used to determine the eligibility of the shipment(s) and to calculate the premium due to EXIM for its support of the shipment(s) under its insurance program.

DATES: Comments must be received on or before May 10, 2019 to be assured of consideration.

ADDRESSES: Comments may be submitted electronically on WWW.REGULATIONS.GOV (EIB 92-30) or by email to Mia.Johnson@exim.gov or by mail to Mia L. Johnson, Export-Import Bank of the United States, 811 Vermont Ave. NW, Washington, DC 20571. The information collection tool can be reviewed at: https://www.exim.gov/sites/default/files/pub/pending/eib92-30.pdf.

SUPPLEMENTARY INFORMATION: Title and Form Number: EIB 92-30 Report of Premiums Payable for Financial Institutions Only.

OMB Number: 3048-0021.

Type of Review: Renewal.

Need and Use: This collection of information is necessary to determine eligibility of the applicant for EXIM assistance. The information collected enables EXIM to determine the eligibility of the shipment(s) for insurance and to calculate the premium due to EXIM for its support of the shipment(s) under its insurance program.

Affected Public: This form affects entities involved in the export of U.S. goods and services.

Annual Number of Respondents: 215.

Estimated Time per Respondent: 30 minutes.

Annual Burden Hours: 1,290 hours.

Frequency of Reporting of Use: Monthly.

Government Expenses:

Reviewing time per year: 860 hours.

Average Wages per Hour: $42.50.

Average Cost per Year: $36,550 (time*wages).

Benefits and Overhead: 20%.

Total Government Cost: $43,860.

Bassam Doughman,
IT Specialist.

[FR Doc. 2019-04364 Filed 3-8-19; 8:45 am]

BILLING CODE 6690-01-P